DEPARTMENT OF COMMERCE

National Oceanic and Atmospheric Administration

[RTID 0648-XF069]

Western Pacific Fishery Management Council; Public Meetings

AGENCY: National Marine Fisheries Service (NMFS), National Oceanic and Atmospheric Administration (NOAA), Commerce.

ACTION: Notice of public meetings.

SUMMARY: The Western Pacific Fishery Management Council (Council) will hold its 157th Scientific and Statistical Committee (SSC), Executive and Budget Standing Committee (SC), and its 204th Council meeting to take actions on fishery management issues in the Western Pacific Region.

DATES: The meetings will be held between September 9 and September 17, 2025. For specific times and agendas, see SUPPLEMENTARY INFORMATION. Written public comments on final action items at the 204th Council meeting should be received at the Council office by 5 p.m. HST, Thursday, September 11, 2025, see ADDRESSES.

ADDRESSES: The 157th SSC, Executive and Budget SC, and 204th Council meetings will be held as a hybrid meeting for members and the public, with a remote participation option available via Webex. The Executive and Budget SC will be held as an in-person meeting. In-person attendance for the 157th SSC and Executive and Budget SC meetings will be hosted at the Council office, 1164 Bishop Street, Suite 1400, Honolulu, HI 96813. In-person attendance for the 204th Council meeting will be hosted at the Ala Moana Hotel, Garden Lanai, 410 Atkinson Drive, Honolulu, HI 96814.

Specific information on joining the meeting, connecting to the web conference and providing oral public comments will be posted on the Council website at www.wpcouncil.org. For assistance with the web conference connection, contact the Council office at (808) 522-8220.

Council address: Western Pacific Fishery Management Council, 1164 Bishop Street, Suite 1400, Honolulu, HI 96813.

Background documents for the 204th Council meeting will be available at www.wpcouncil.org. Written public comments on final action items at the 204th Council meeting should be received at the Council office by 5 p.m. HST, Thursday, September 11, 2025, and should be sent to Kitty M. Simonds, Executive Director; Western Pacific Fishery Management Council, 1164 Bishop Street, Suite 1400, Honolulu, HI 96813, phone: (808) 522-8220 or fax: (808) 522-8226; or email: info@wpcouncil.org. Written public comments on all other agenda items may be submitted for the record by email throughout the duration of the meeting. Instructions for providing oral public comments during the meeting will be posted on the Council website.

FOR FURTHER INFORMATION CONTACT: Kitty M. Simonds, Executive Director, Western Pacific Fishery Management Council; phone: (808) 522-8220.

SUPPLEMENTARY INFORMATION: The 157th SSC meeting will be held between 9 a.m. and 5 p.m. Hawaii Standard Time (HST) on September 9-10, 2025, and between 9 a.m. and 12 p.m. HST on September 11, 2025. The Executive and Budget SC meeting will be held between 1 p.m. and 4 p.m. HST on September 15, 2025. The 204th Council meeting will be held between 8:30 a.m. and 5 p.m. HST on September 16-17, 2025. Public Comment on Non-Agenda Items will be held between 4:30 p.m. and 5 p.m. HST on September 16, 2025.

Agenda items noted as “Final Action” refer to actions that may result in Council transmittal of a proposed fishery management plan, proposed plan amendment, or proposed regulations to the U.S. Secretary of Commerce, under Sections 304 or 305 of the Magnuson-Stevens Fishery Conservation and Management Act (MSA). In addition to the agenda items listed here, the Council and its advisory bodies will hear recommendations from Council advisors. An opportunity to submit public comment will be provided throughout the agendas. The order in which agenda items are addressed may change and will be announced in advance at the Council meeting. The meetings will run as late as necessary to complete scheduled business.

This meeting will be recorded (audio only) for the purposes of generating the minutes of the meeting. As public comments will be made publicly available, participants and public commenters are urged not to provide personally identifiable information (PII) at this meeting. Participation in the meeting by web conference, or by telephone, constitutes consent to the audio recording.

Agenda for the 157th SSC Meeting

Tuesday, September 9, 2025, 9 a.m. to 5 p.m. HST

1. Introductions

2. Approval of Draft Agenda and Assignment of Rapporteurs

3. Status of the 156th SSC Meeting Recommendations

4. NMFS Science Updates

A. Pacific Islands Fisheries Science Center Director Report

B. Technical Review of the Fisheries Integrated Modeling System Stock Assessment Model

5. Program Planning and Research

A. SSC Special Projects Working Group Reports

A.1. Integration of Biological, Economic, Social, and Cultural Considerations

A.2. Integration of Climate Information Into Decision Making

A.3. Bottomfish Management Unit Species (BMUS) Multispecies Complex

A.1. Review and Update of the SSC Special Projects List

B. Overview of Machine Learning and Artificial Intelligence Tools

C. Social, Economic, Ecological, and Management Uncertainty (SEEM) Process Review Report

D. Council Inflation Reduction Act (IRA) Project Updates

D.1. Scenario Planning

D.2. Protected Species Workshops

D.3. Regulatory Review and Community Engagement

E. Status of Shark Depredation Research

F. Review and Update of Research Priorities

G. Public Comment

H. SSC Discussion and Recommendations

Wednesday, September 10, 2025, 9 a.m. to 5 p.m. HST

6. Pelagic & International Fisheries

A. Deep-Sea Mining

A.1. State of Knowledge on Deep-Sea Mining Impacts

A.2. Impossible Metals Eureka

B. Design- and Model-Based Approaches for Shark Bycatch Estimation

C. Multi-Species Impact Considerations for the Southern Exclusion Zone Closures

D. Western and Central Pacific Fisheries Commission (WCPFC) Science Committee

D.1. Science Committee Report

D.2. Oceanic Whitetip Shark Stock Assessment

E. Inter-American Tropical Tuna Commission (IATTC) Science Committee Report

F. Public Comment

G. SSC Discussion and Recommendations

7. Island Fisheries

A. Setting Acceptable Biological Catch for the Commonwealth of the Northern Mariana Islands (CNMI) Bottomfish Fishery (Action Item)

B. Public Comment

C. SSC Discussion and Recommendations

Thursday, September 11, 2025, 9 a.m. to 12 p.m. HST

8. Other Business

A. SSC Meeting Schedule and Potential Working Groups

9. Summary of SSC Recommendations to the Council

Agenda for the Executive and Budget SC Meeting

Monday, September 15, 2025, 1 p.m. to 4 p.m. HST

1. Introduction and Approval of Agenda

2. Financial Reports

3. Administrative Reports

4. Council Family Changes

5. Meetings and Workshops

6. Other Business

7. Public Comment

8. Discussion and Recommendations

Agenda for the 204th Council Meeting

Tuesday, September 16, 2025, 8:30 a.m. to 5 p.m. HST

1. Welcome and Introductions

2. Oath of Office

3. Approval of the 204th CM Agenda

4. Approval of the 203rd CM Meeting Minutes

5. Executive Director's Report

6. Agency Reports

A. National Marine Fisheries Service

A.1. Pacific Islands Regional Office

A.2. Pacific Islands Fisheries Science Center

B. NOAA Office of General Counsel Pacific Islands Section

C. US Coast Guard

D. Enforcement

D.1. NOAA Office of Law Enforcement

D.2. NOAA Office of General Counsel Enforcement Section

E. US State Department

F. US Fish and Wildlife Service

G. Public Comment

H. Council Discussion and Action

7. Hawaii Archipelago and Pacific Remote Island Area (PRIA)

A. Moku Pepa

B. Division of Aquatic Resources Report

C. Pacific States Marine Fisheries Commission

D. Small Boat Fisheries Issues (Shortline, Sharks)

E. Advisory Group Report and Recommendations

E.1. Advisory Panel

E.2. Fishing Industry Advisory Committee

E.3. Scientific and Statistical Committee

F. Public Comment

G. Council Discussion and Action

8. Program Planning and Research

A. Legislative Report

B. Aligning Science and Management Priorities

C. Report on the Seafood Executive Order Updated Recommendations

D. Recommendations for Commercial Fishing in the Pacific Island Heritage Marine National Monument Expansion Area (Initial Action)

E. Report on IRA Program Projects

E.1. Scenario Planning

E.2. Regulatory Review

E.3. Protected Species

E.4. Community Engagement/Capacity Building

F. Council Education and Outreach Report

G. Advisory Group Report and Recommendations

G.1. Advisory Panel

G.2. Fishing Industry Advisory Committee

G.3. Fishery Data Collection and Research Committee

G.4. Scientific and Statistical Committee

H. Public Comment

I. Council Discussion and Action

9. Mariana Archipelago

A. Guam

A.1. Isla Informe

A.2. Department of Agriculture/Division of Aquatic and Wildlife Resources Report

B. CNMI

B.1. Arongol Falú

B.2. Department of Lands and Natural Resources/Division of Fish and Wildlife Report

B.3. CNMI BMUS Annual Catch Limit Specification (Initial Action)

C. Advisory Group Report and Recommendations

C.1. Marianas Advisory Panel

C.2. Fishing Industry Advisory Committee

C.3. Scientific and Statistical Committee

D. Public Comment

E. Council Discussion and Action

Tuesday, September 16, 2025, 4:30 p.m. to 5 p.m. HST

Public Comment on Non-Agenda Items

Wednesday, September 17, 2025, 8:30 a.m. to 5 p.m. HST

10. Pelagics and International

A. Status of Electronic Monitoring Implementation and Development of the Vessel Monitoring Plan

B. International Fisheries

B.1. WCPFC Scientific Committee Report

B.2. WCPFC Technical Compliance Committee Report

B.3. American Samoa WCPFC Fishery Issues

B.4. IATTC Report

C. Update on the Seafood Import Monitoring Program (SIMP)

D. Marine Mammal Protection Act Imports Provision Implementation Update on Comparability Findings

E. Advisory Group Report and Recommendations

E.1. Advisory Panels

E.2. Fishing Industry Advisory Committee

E.3. Scientific & Statistical Committee

F. Public Comment

G. Council Discussion and Action

11. American Samoa Archipelago

A. Motu Lipoti

B. Department of Marine and Wildlife Resources Report

C. Deep Sea Mining

C.1. State of Knowledge on Deep-Sea Mining Impacts

C.2. Impossible Metals Proposal

C.3. Report on American Samoa Concerns

D. Advisory Group Report and Recommendations

D.1. American Samoa Advisory Panel

D.2. Fishing Industry Advisory Committee

D.3. Scientific and Statistical Committee

E. Public Comment

F. Council Discussion and Action

12. Administrative Matters

A. Financial Reports

B. Administrative Reports

C. Council Family Changes

D. Meetings and Workshops

E. Executive and Budget Standing Committee Report

F. Public Comment

G. Council Discussion and Action

13. Other Business

Non-emergency issues not contained in this agenda may come before the Council for discussion during its 204th meeting. However, Council final decisions will be restricted to those issues specifically listed in this document and any regulatory issue arising after publication of this document that requires emergency action under section 305(c) of the Magnuson-Stevens Act, provided the public has been notified of the Council's intent to take action to address the emergency.

Special Accommodations

These meetings are accessible to people with disabilities. Requests for sign language interpretation or other auxiliary aids should be directed to Kitty M. Simonds, (808) 522-8220 (voice) or (808) 522-8226 (fax), at least 5 days prior to the meeting date.

Authority: 16 U.S.C. 1801 et seq.

Dated: August 19, 2025.
Rey Israel Marquez,
Acting Deputy Director, Office of Sustainable Fisheries, National Marine Fisheries Service.

[FR Doc. 2025-16019 Filed 8-20-25; 8:45 am]

BILLING CODE 3510-22-P